DEPARTMENT OF COMMERCE

International Trade Administration

[A-583-816]

Notice of Decision of the Court of International Trade: Certain Stainless Steel Butt-Weld Pipe Fittings From Taiwan

AGENCY: Import Administration, International Trade Administration, Department of Commerce.

ACTION: Notice of decision of the Court of International Trade.

SUMMARY: On June 4, 2004, the Court of International Trade (CIT) reversed the Department of Commerce's (the Department's) antidumping duty order scope determination. Allegheny Bradford Corporation, d/b/a Top Line Process Equipment Company v. United States, Court No. 02-00073, Slip. Op. 04-59 (CIT, June 4, 2004) (Allegheny Bradford Corp.). Consistent with the decision of the United States Court of Appeals for the Federal Circuit (Federal Circuit) in Timken Co. v. United States, 893 F.2nd 337 (Fed. Cir. 1990) (Timken), the Department is notifying the public that the Allegheny Bradford Corp. decision was “not in harmony” with the Department's scope determination.

EFFECTIVE DATE: June 21, 2004.

FOR FURTHER INFORMATION CONTACT: James Doyle, Office IX, DAS Group III, Import Administration, International Trade Administration, U.S. Department of Commerce, 14th Street and Constitution Avenue, NW., Washington, DC 20230; telephone (202) 482-0159.

SUPPLEMENTARY INFORMATION:

Background

On December 10, 2001, the Department of Commerce (the Department) issued its Final Scope Ruling on the Antidumping Duty Order on Stainless Steel Butt-Weld Pipe Fittings from Taiwan: Allegheny Bradford Corporation d/b/a Top Line Process Equipment. In this ruling, the Department found the subject merchandise in question to be within the scope of the order as the Department did not find the designation of the fittings as “tube” rather than “pipe” fittings to provide a meaningful distinction given the significant overlap between common usage of those two terms. Allegheny Bradford Corporation, d/b/a Top Line Process Equipment Company challenged this determination before the CIT arguing, in relevant part, that its stainless steel butt-weld tube fittings from Taiwan were improperly ruled to be within the scope of the antidumping duty order by the Department. On June 4, 2004, the CIT reversed the Department's antidumping duty order scope determination. Allegheny Bradford Corp. Stating that the scope of the antidumping duty order unambiguously excludes fittings which are not beveled, the CIT ordered that the Department must exclude the stainless steel butt-weld pipe fittings subject to this request from the scope of the antidumping order. Id.

Timken Notice

In its decision in Timken, the Federal Circuit held that, pursuant to 19 U.S.C. 1516a(e), the Department must publish notice of a decision of the CIT which is “not in harmony” with the Department's results. The CIT's decision in Allegheny Bradford Corp. was not in harmony with the Department's final scope determination. Therefore, publication of this notice fulfills the obligation. In addition, this notice will serve to continue the suspension of liquidation pending the expiration of the period to appeal the CIT's June 4, 2004, decision, or, if that decision is appealed, pending a final decision by the Federal Circuit. The Department will issue liquidation instructions and revise cash deposit instructions effective the date of publication of this notice in the Federal Register if the CIT's decision is not appealed, or if it is affirmed on appeal.

Dated: June 15, 2004.
James J. Jochum,
Assistant Secretary for Import Administration.

[FR Doc. 04-14113 Filed 6-18-04; 8:45 am]

BILLING CODE 3510-DS-P